DEPARTMENT OF HEALTH AND HUMAN SERVICES

Centers for Disease Control and Prevention

[30Day-15-15GD]

Proposed Data Collections Submitted for Public Comment and Recommendations; Withdrawal

AGENCY: National Institute for Occupational Safety and Health (NIOSH), Centers for Disease Control and Prevention (CDC), Department of Health and Human Services (HHS). In compliance with the requirement of Section 3506(c)(2)(A) of the Paperwork Reduction Act of 1995.

Subject: Emergency Self Escape for Coal Miners.

ACTION: Notice withdrawal.

SUMMARY: The Centers for Disease Control and Prevention requests withdrawal from publication the 30-Day Federal Register Notice (FRN) 15-15GD concerning the Emergency Self Escape for Coal Miners ([FR Doc. 2015-05512 Filed 3-9-15; 8:45 a.m.]), which was submitted on March 5, 2015 for public inspection in the Federal Register.

CDC discovered errors with the published information collection burden estimates and has since corrected these estimates.

DATES: The 30-day FRN published on [03/10/15] at [Vol. 80, No. 46 Page 12638-12640] is withdrawn as of [03/11/15].

FOR FURTHER INFORMATION CONTACT: (404) 639-7570 or send comments to CDC Leroy Richardson, 1600 Clifton Road, MS D-74, Atlanta, GA 30333 or send an email to omb@cdc.gov.

SUPPLEMENTARY INFORMATION: N/A

Leroy A. Richardson,
Chief, Information Collection Review Office, Office of Scientific Integrity, Office of the Associate Director for Science, Office of the Director, Centers for Disease Control and Prevention.

[FR Doc. 2015-05942 Filed 3-16-15; 8:45 am]

BILLING CODE 4163-18-P